OFFICE OF PERSONNEL MANAGEMENT

Submission for Review: 3206-0143, Request to Disability Annuitant for Information on Physical Condition and Employment, RI 30-1

AGENCY: Office of Personnel Management.

ACTION: 60-Day notice and request for comments.

SUMMARY: Office of Personnel Management (OPM) offers the general public and other federal agencies the opportunity to comment on an expiring information collection request (ICR), Request to Disability Annuitant for Information on Physical Condition and Employment, RI 30-1.

DATES: Comments are encouraged and will be accepted until April 27, 2026.

ADDRESSES: You may submit comments by the following method:

—Federal Rulemaking Portal: http://www.regulations.gov. Follow the instructions for submitting comments.

The general policy for comments and other submissions from members of the public is to make these submissions available for public viewing at http://www.regulations.gov as they are received without change, including any personal identifiers or contact information.

FOR FURTHER INFORMATION CONTACT: A copy of this ICR with applicable supporting documentation may be obtained by contacting the Retirement Services Publications Team, Office of Personnel Management, 1900 E Street NW, Room 3316-BD, Washington, DC 20415, Attention: Cyrus S. Benson, or via electronic mail to RSPublicationsTeam@opm.gov.

SUPPLEMENTARY INFORMATION: As required by the Paperwork Reduction Act, as amended (44 U.S.C. chapter 35), OPM is soliciting comments for this collection (OMB No. 3206-0143). The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

RI 30-1, Request to Disability Annuitant for Information on Physical Condition and Employment, is used by persons who are not yet age 60 and who are receiving a disability annuity and are subject to inquiry regarding their medical condition as OPM deems reasonably necessary.

Analysis

Agency: Retirement Operations, Retirement Services, Office of Personnel Management.

Title: Request to Disability Annuitant for Information on Physical Condition and Employment (RI 30-1).

OMB Number: 3206-0143.

Frequency: On occasion.

Affected Public: Individuals or Households.

Number of Respondents: 8,000.

Estimated Time per Respondent: 60 minutes.

Total Burden Hours: 8,000 hours.

Office of Personnel Management.
Alexys Stanley,
Federal Register Liaison.

[FR Doc. 2026-03696 Filed 2-23-26; 8:45 am]

BILLING CODE 6325-38-P